DEPARTMENT OF THE INTERIOR

Bureau of Land Management

[L12200000.NO0000 .LLCAD00000]

Notice of Interim Final Supplementary Rules for Public Lands Managed by the California Desert District

AGENCY: Bureau of Land Management, Interior.

ACTION: Notice of Interim Final Supplementary Rules.

SUMMARY: The Bureau of Land Management (BLM) California Desert District (CDD) Office and the five Field Offices within the CDD, are issuing interim final supplementary rules for public lands administered by the BLM. The BLM has determined these interim final supplementary rules are necessary to enhance the safety of visitors, protect public health, protect natural resources, and improve recreation experiences and opportunities.

DATES: The interim final supplementary rules are effective June 25, 2010 and remain in effect until modified or rescinded by the publication of the final supplementary rules. We invite comments until July 26, 2010. Comments postmarked or received in person after this date may not be considered in the development of the final supplementary rules.

ADDRESSES: You may submit comments by the following methods: Mail or hand-delivery: Lynnette Elser, Bureau of Land Management, California Desert District Office, 22835 Calle San Juan De Los Lagos, Moreno Valley, California 92553.

FOR FURTHER INFORMATION CONTACT: Lynnette Elser, Planning and Environmental Coordinator, BLM, California Desert District Office, 22835 Calle San Juan De Los Lagos, Moreno Valley, California 92553, phone: (951) 697-5233, or e-mail: lelser@ca.blm.gov.

SUPPLEMENTARY INFORMATION:

I. Public Comment Procedures

You may mail or hand-deliver comments to Lynnette Elser, Planning and Environmental Coordinator, BLM, California Desert District Office, 22835 Calle San Juan De Los Lagos, Moreno Valley, California 92553. Written comments on the interim final supplementary rules should be specific, confined to issues pertinent to the interim final supplementary rules, and should explain the reason for any recommended change. Where possible, comments should reference the specific section or paragraph of the rule that the comment is addressing. The BLM is not obligated to consider or include in the Administrative Record for the interim final supplementary rule: (a) comments that the BLM receives after the close of the comment period (See DATES), unless they are postmarked or electronically dated before the deadline, or (b) comments delivered to an address other than those listed above (See ADDRESSES).

Comments, including names, street addresses, and other contact information of respondents, will be available for public review at the BLM's CDD Office, 22835 Calle San Juan De Los Lagos, Moreno Valley, California 92553, during regular business hours (8 a.m. to 4 p.m.), Monday through Friday, except Federal holidays. Before including your address, telephone number, e-mail address, or other personal identifying information in your comment, you should be aware that your entire comment—including your personal identifying information—may be made publicly available at any time. While you can ask us in your comment to withhold your personal identifying information from public review, we cannot guarantee that we will be able to do so.

II. Background

Visitors to the CDD encounter inconsistent rules regarding appropriate behavior in recreational areas. This inconsistency hampers the BLM's ability to provide a safe family-orientated recreational experience for the visitors. The BLM is establishing these rules to provide a consistent set of rules for the BLM managed land within the CDD.

The BLM is establishing these interim final supplementary rules under the authority of 43 CFR 8365.1-6, which allows the BLM State Directors to establish such rules for the protection of persons, property, and public lands and resources.

The BLM finds good cause to publish these supplementary rules on an interim basis because of immediate public safety and resource protection needs within the management area. These supplementary rules will serve as an enforcement tool in minimizing resource impacts and enhancing visitor safety. An estimated 5 million visitors use these BLM administered lands, encompassing more than 11 million acres, each year for a large variety of recreational and other activities. The BLM is responsible for providing recreational opportunities on public lands. These interim final supplementary rules will prohibit acts, such as riding in truck beds, for safety reasons and create resource protection rules such as regulating camp fires, trash, and campsite closures. These interim final supplementary rules will provide consistency for public lands managed by the five Field Offices in the CDD. Therefore, the immediate implementation of these supplementary rules is required.

These rules do not propose or implement any land use limitations or restrictions as described in the Multiple Use Classification Guidelines of the California Desert Conservation Area Plan other than those included within the BLM's decisions associated with the CDCA Plan, as amended, and associated environmental impact statements and environmental assessments (EA), or allowed under existing law or regulation.

The CDD is located in southern California and includes all BLM managed land in Imperial, Inyo, Kern, Riverside, Los Angeles, San Bernardino, and San Diego Counties, California. A map of the area can be obtained by contacting the CDD office (see ADDRESSES) or by accessing the following Web site: http://www.ca.blm.gov. The supplementary rules will be available for inspection in the BLM's CDD Office in Moreno Valley, the CDD's five Field Offices: Ridgecrest, Barstow, Palm Springs-South Coast, Needles and El Centro Field Offices, and on kiosks throughout the CDD. These rules will be published in a newspaper of general circulation in the affected vicinity at the same time they are published in the Federal Register.

III. Procedural Matters

Executive Order 12866, Regulatory Planning and Review

These supplementary rules are not a significant regulatory action and are not subject to review by the Office of Management and Budget under Executive Order 12866. They will not have an effect of $100 million or more on the economy. They do not affect commercial activity. They will not adversely affect, in a material way, the economy, productivity, competition, jobs, environment, public health or safety, or State, local, or tribal governments or communities. They will not create a serious inconsistency or otherwise interfere with an action taken or planned by another agency. They do not alter the budgetary effects of entitlements, grants, user fees, or loan programs or the rights or obligations of their recipients; nor do they raise novel legal or policy issues. These rules merely contain rules of conduct for public use of public land and provide for consistency within the CDD.

Clarity of the Interim Final Supplementary Rules

Executive Order 12866 requires each agency to write regulations that are simple and easy to understand. The BLM invites your comments on how to make these supplementary rules easier to understand, including answers to questions such as the following:

(1) Are the requirements in the supplementary rules clearly stated?

(2) Do the supplementary rules contain technical language or jargon that interferes with their clarity?

(3) Does the format of the supplementary rules (grouping and order of sections, use of headings, paragraphing, etc.) aid or reduce their clarity?

(4) Would the supplementary rules be easier to understand if they were divided into more (but shorter) sections?

(5) Is the description of the supplementary rules in the SUPPLMENTARY INFORMATION section of this preamble helpful in understanding the interim final supplementary rules? How could this description be more helpful in making the interim final supplementary rules easier to understand?

Please send any comments you have on the clarity of the supplementary rules to the address specified in the ADDRESSES section.

National Environmental Policy Act (NEPA)

The BLM has prepared an EA (CA-670-10-38) and has determined that the rules would not constitute a major Federal action significantly affecting the quality of the human environment under Section 102(2)(C) of NEPA, 42 U.S.C. 4332(2)(C). The EA was posted on the CDD Web site and was available for a 30-day public comment period from October 20, 2009 through November 20, 2009. A finding of no significant impact was signed February 1, 2010 and a decision record was signed February 1, 2010. The BLM invites the public to comment on the EA and Finding of No Significant Impact in accordance with the Public Comment.

These supplementary rules merely establish rules of conduct for the lands managed by the BLM CDD and its five Field Offices. These rules are designed to protect the environment and public health and safety.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. These rules merely establish rules of conduct for public recreational use of specific public lands. Therefore, the BLM has determined under the RFA that these rules would not have a significant economic impact on a substantial number of small entities.

Small Business Regulatory Enforcement Fairness Act

These interim final supplementary rules do not constitute a “major rule” as defined at 5 U.S.C. 804(2). These rules merely establish rules of conduct for recreational use of certain public lands and do not affect commercial or business activities of any kind.

Unfunded Mandates Reform Act

These supplementary rules do not impose an unfunded mandate on State, local or tribal governments or the private sector of more than $100 million per year; nor do these supplementary rules have a significant or unique effect on State, local, or tribal governments or the private sector. These supplementary rules have no effect on State, local, or tribal governments and do not impose any requirements on any of these entities. Therefore, the BLM has determined that a statement containing the information required by the Unfunded Mandates Reform Act (2 U.S.C 1531 et seq.).

Executive Order 12630, Governmental Actions and Interference with Constitutionally Protected Property Rights (Takings)

These supplementary rules do not represent a government action capable of interfering with constitutionally protected property rights. The supplementary rules do not address property rights in any form, and do not cause the impairment of one's property rights. Therefore, the BLM has determined that these interim final supplementary rules would not cause a “taking” of private property or require further discussion of takings implications under this Executive Order.

Executive Order 13132, Federalism

The supplementary rules will not have a substantial direct effect on the States, on the relationship between the national government and the States, or on the distribution of power and responsibilities among the various levels of government. These supplementary rules do not conflict with any California State law or regulation. Therefore, in accordance with Executive Order 13132, the BLM has determined that these supplementary rules do not have sufficient Federalism implications to warrant preparation of a Federalism Assessment.

Executive Order 12988, Civil Justice Reform

Under Executive Order 12988, the BLM California State Office has determined that these supplementary rules would not unduly burden the judicial system and that they meet requirements of sections 3(a) and 3(b)(2) of the Order.

Executive Order 13175, Consultation and Coordination with Indian Tribal Governments

In accordance with Executive Order 13175, the BLM has found that these supplementary rules do not include policies that have tribal implications. The supplementary rules do not affect Indian resource, religious, or property rights.

Executive Order 13211, Actions Concerning Regulations That Significantly Affect Energy Supply, Distribution, or Use

These supplementary rules do not comprise a significant energy action. The rules will not have an adverse effect on energy supply, production, or consumption and have no connection with energy policy.

Executive Order 13352, Facilitation of Cooperative Conservation

In accordance with Executive Order 13352, the BLM has determined that the supplementary rules will not impede facilitating cooperative conservation; will take appropriate account of and consider the interests of persons with ownership or other legally recognized interests in land or other natural resources; properly accommodate local participation in the Federal decision-making process; and provide that the programs, projects, and activities are consistent with protecting public health and safety. These rules merely establish rules of conduct for recreational use of certain public lands.

Paperwork Reduction Act

These supplementary rules do not contain information collection requirements that the Office of Management and Budget must approve under the Paperwork Reduction Act, 44 U.S.C. 3501 et seq.

Information Quality Act

In developing these supplementary rules, the BLM did not conduct or use a study, experiment or survey requiring peer review under the Information Quality Act (Section 515 of Pub. L. 106-554).

Author

The principal author of these interim final supplementary rules is Lynnette Elser, Planning and Environmental Coordinator, BLM California Desert District.

Supplementary Rules for Lands Managed by the BLM California Desert District Office

For the reasons stated in the Preamble and under the authority of 43 CFR 8365.1-6, the California State Director, Bureau of Land Management, issues supplementary rules for public lands managed by the California Desert District (CDD), to read as follows:

Section 1—Definitions

BLM California Desert District means public land, managed by the BLM, totaling over 11 million acres, primarily in the southern and eastern portions of California. The California Desert District, under the authority of the District Manager, provides coordination and oversight to the five field offices of the California Desert District. The California Desert District office is located in Moreno Valley, California. This includes all of the land managed by the BLM Ridgecrest Field Office, the BLM Barstow Field Office, the BLM Palm Springs-South Coast Field Office, the BLM Needles Field Office, and the BLM El Centro Field Office. A map of this land is available at the CDD office.

Camp means day or overnight use of a tent, trailer, motor coach, fifth wheel, camper, or similar vehicle or structure.

Developed Sites and Areas means sites and areas that contain structures or capital improvements primarily used by the public for recreation purposes. Such sites or areas may include such features as: Delineated spaces for parking, camping or boat launching; sanitary facilities; potable water; grills or fire rings; tables; or controlled access. This definition is consistent with 43 CFR part 8360.

Off Road Vehicle (ORV) means ORV as defined by 43 CFR 8340.0-5.

Public Nudity means nudity in a place where a person may be observed by another person.

Nudity means nudity as defined by 14 California Code of Regulations Section 4322.

Special Recreation Permit means a permit issued under the authority of 43 CFR 8372.1.

Section 2—Supplementary Rules

The following rules apply on public lands administered by the BLM California Desert District unless explicitly authorized by a permit or other authorization document issued by the BLM:

1. Public nudity is prohibited at all developed sites and areas and all ORV open areas.

2. It is prohibited for a person to ride in or transport another person in or on a portion of an ORV or trailer that is not designed or intended for the transportation of passengers.

3. It is prohibited to use as firewood, or have in their possession, any firewood materials containing nails, screws, or other metal hardware, including, but not limited to, wood pallets and/or construction debris.

4. Possession of glass beverage containers is prohibited in all developed sites and areas and all ORV open areas.

5. It is prohibited to place into the ground any non-flexible object, such as, but not limited to, metal or wood stakes, poles, or pipes, with the exception of small tent or awning stakes, at all developed sites and areas and all ORV open areas.

6. It is prohibited to camp within the areas commonly known as Competition Hill Corridor and Competition Hill located within the Dumont Dunes ORV Area, as shown in the map at the entrance kiosk.

7. It is prohibited to reserve or save a camping space for another person at all developed sites and areas and all ORV open areas.

8. All persons must keep their sites free of trash and litter during the period of occupancy.

Employees and agents of the BLM are exempt from these rules during the performance of specific official duties as authorized by the CDD Manager, or the Ridgecrest, Barstow, Needles, Palm Springs-South Coast or El Centro Field Managers.

Section 3—Penalties

On public lands under Section 303(a) of the Federal Land Policy and Management Act of 1976 (43 U.S.C. 1733(a); 43 CFR 8360.0-7; 43 CFR 2932.57(b)), any person who violates any of these supplementary rules may be tried before a United States Magistrate and fined no more than $1,000 or imprisoned for no more than 12 months, or both.

Such violations may also be subject to the enhanced fines provided for by 18 U.S.C. 3571. Those who violate these rules may also be subject to civil action for unauthorized use of the public lands, violations of special recreation permit terms, conditions, or stipulations, or for uses beyond those allowed by the permit under 43 CFR 2932.57(b)(2).

James Wesley Abbott,
Acting State Director.

[FR Doc. 2010-15437 Filed 6-24-10; 8:45 am]

BILLING CODE 4310-40-P